DEPARTMENT OF LABOR

Employee Benefits Security Administration

Prohibited Transaction Exemptions and Grant of Individual Exemptions

Notice of Technical Correction

Prohibited Transaction Exemptions and Grant of Individual Exemptions Involving D-11468 and D-11469, The Krispy Kreme Doughnut Corporation Retirement Savings Plan and The Krispy Kreme Profit-Sharing Stock Ownership Plan, 2011-14; D-11634, The United Brotherhood of Carpenters Pension Fund, 2011-15; L-11651 and L-11652, Verizon Communications, Inc. and Cellco Partnership, 2011-16, et al.

In the Federal Register notice document 2011-20342, beginning on page 49788 of the Thursday, August 11, 2011 issue, the prohibited transaction exemption numbers were incorrectly cited. Accordingly, the Department is hereby making the following technical corrections to above referenced grant notices:

1. On page 49788, in the third column, above the heading “Exemption,” for “The Krispy Kreme Doughnut Corporation Retirement and Savings Plan (the Savings Plan) and the Krispy Kreme Profit-Sharing Stock Ownership Plan the KSOP; together, the Plans)” replace the bracketed text “[Prohibited Transaction Exemption 2011-10;]” with “[Prohibited Transaction Exemption 2011-14;].”

2. On page 49790, in the second column, above the heading “Exemption,” for “The United Brotherhood of Carpenters Pension Fund (the Plan),” replace the bracketed text “[Prohibited Transaction Exemption 2011-11;]” with “[Prohibited Transaction Exemption 2011-15;].”

3. On page 49790, in the third column, above the heading “Exemption,” for “Verizon Communications, Inc. (Verizon) and Cellco Partnership, doing business as Verizon Wireless (Verizon Wireless; collectively, the Applicants),” replace the bracketed text “[Prohibited Transaction Exemption 2011-12;]” with “[Prohibited Transaction Exemption 2011-16;].”

Signed at Washington, DC, this 12th day of August, 2011.
Ivan L. Strasfeld,
Director of Exemption Determinations, Employee Benefits Security Administration, U.S. Department of Labor.

[FR Doc. 2011-21033 Filed 8-17-11; 8:45 am]

BILLING CODE 4510-29-P